DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing an update to the identifying information of one entity currently included on OFAC's Specially Designated Nationals and Blocked Persons List (SDN List).

DATES: See SUPPLEMENTARY INFORMATION section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The SDN List and additional information concerning OFAC sanctions programs are available on OFAC's website (https://www.treasury.gov/ofac).

Notice of OFAC Action(s)

On March 25, 2021, OFAC removed the entry on the SDN List for the following entity:

Entity

33RD LIGHT INFANTRY DIVISION OF THE BURMESE ARMY, Sagaing, Burma [BURMA-EO14014].

On March 25, 2021, OFAC updated the entry on the SDN List for the following entity, whose property and interests in property continue to be blocked pursuant to Executive Order 13818 of December 20, 2017, “Blocking the Property of Persons Involved in Serious Human Rights Abuse or Corruption”:

Entity

33RD LIGHT INFANTRY DIVISION OF THE BURMESE ARMY, Sagaing, Burma [GLOMAG].

The listing for the entity now appears as follows:

33RD LIGHT INFANTRY DIVISION OF THE BURMESE ARMY, Sagaing, Burma [GLOMAG] [BURMA-EO14014].

Dated: March 25, 2021.
Bradley T. Smith,
Acting Director, Office of Foreign Assets Control, U.S. Department of the Treasury.

[FR Doc. 2021-06480 Filed 3-29-21; 8:45 am]

BILLING CODE 4810-AL-P